DEPARTMENT OF HEALTH AND HUMAN SERVICES

Health Resources and Services Administration

Agency Information Collection Activities: Proposed Collection; Comment Request

In compliance with the requirement for the opportunity for public comment on proposed data collection projects (section 3506(c)(2)(A) of Title 44, United States Code, as amended by the Paperwork Reduction Act of 1995 (Pub. L. 104-13)), the Health Resources and Services Administration (HRSA) publishes periodic summaries of proposed projects being developed for submission to the Office of Management and Budget (OMB) under the Paperwork Reduction Act of 1995. To request more information on the proposed grant information collection activity or to obtain a copy of the data collection plan and draft instruments, call the HRSA Reports Clearance Officer at (301) 443-1129.

Comments are invited on: (a) Whether the proposed collection of information is necessary for proper performance of grantee functions including whether the information will have practical utility; (b) the accuracy of the burden estimate of the proposed collection of information; (c) ways to enhance the quality, utility and clarity of the information to be collected; and (d) ways to minimize the information collection burden on respondents, including the use of automated collection methods or other types of information technology.

Proposed Project: Ryan White Comprehensive AIDS Resources Emergency (CARE) Act Title I Grant Application Information Supplements: NEW

The CARE Act (codified under Title XXVI of the Public Health Service Act) was first enacted by Congress in 1990, and reauthorized in 1996 and 2000. It addresses the unmet health needs of persons living with HIV disease by funding primary health care and support services that enhance access to and retention in care. The CARE Act funded services reach over 571,000 individuals; after Medicaid and Medicare, it is the largest single source of Federal funding for HIV/AIDS care for low-income, uninsured, and underinsured Americans. Title I under the CARE Act provides emergency assistance to eligible metropolitan areas (EMAs) that have been most severely affected by the HIV epidemic, for the purpose of developing or enhancing a continuum of high quality, community-based care for low-income individuals and families. HRSA disburses approximately one-half of the Title I funds among 51 EMAs based on a congressionally-mandated formula. The remaining funds are available on a competitive basis to those same EMAs that demonstrate severe need for supplemental assistance to combat the HIV epidemic, and an ability to disburse and use supplemental resources in a manner that is immediately responsive to the local epidemic and cost effective.

The CARE Act requires local planning councils to establish Title I priorities and allocate funds, taking into account critical factors. These include the: size and demographics of the local HIV epidemic; demonstrated (or probable) cost effectiveness and outcome effectiveness of proposed strategies and interventions; priorities of the communities with HIV disease for whom the services are intended; coordination of HIV care services delivery with HIV prevention programs and programs for the prevention and treatment of substance abuse; availability of other governmental and nongovernmental resources; and capacity development needs resulting from disparities in the availability of treatment and services in underserved communities. Other planning council duties include developing a comprehensive plan for the delivery of services and evaluating the effectiveness of administrative mechanisms used by the grantee to disburse (contract) the funds locally.

The Title I Grant Application Information Supplements have been designed to collect information from EMAs in a consistent, standard way when they apply for new or competing continuation grant funds in a combined formula and supplemental grant application. This information is needed to determine that funds are being used as intended by the Congress and in compliance with CARE Act mandates, and that supplemental funds are awarded to grantees on the basis of objective criteria consistent with CARE Act requirements. This includes requirements that grantees demonstrate: (a) Severity of need for emergency assistance to combat the HIV epidemic, including the unmet needs of persons who know their HIV status but are not yet in care, (Information Supplements 1, 4 and 5); (b) a functioning planning council that is in conformance with statutory membership requirements and carrying out mandated duties and responsibilities, (Information Supplement 2); (c) an ability to use Title I grant resources in a manner that is immediately responsive to the local epidemic and cost effective, and in compliance with payer of last resort, maintenance of effort and related requirements, (Information Supplements 3 and 6); and (d) a comprehensive plan for the delivery of HIV/AIDS care services that is responsive to the local epidemic and unmet needs, (Information Supplements 7 and 8).

In addition, HRSA will use the collected information as a benchmark for monitoring grantee performance during the fiscal year; to identify individual and cross-cutting grantee technical assistance needs; and to detect emerging HIV/AIDS care services issues that may require changes in existing program policies or procedures.

The Title I Application Information Supplements will be transmitted by mail and electronically to all Title I EMAs and made available through the HRSA Web site. Applicants will submit the Information Supplements electronically along with Form PHS-5161-1 (Revised 7/00), SF-424 and the program narrative portion of their application, using the Grants Management electronic transmission mechanisms established by HRSA. The Information Supplements will include check box responses; fields for reporting numeric fiscal and epidemiological data; and text boxes for describing other required information. The Information Supplements will automatically generate totals when appropriate, and have other automated fields to minimize the time required to insert identifying information.

The Information Supplements will require Title I applicants/grantees to report local epidemiological information and some fiscal and programmatic data collected from Title I funded contractors (sub-grantees), which grantees have been collecting and reporting since FY 1995 or earlier. The approximate response burden for applicants/grantees is estimated as:

Estimated number of grantee respondents | Estimated responses per grantee | Total number of responses | Hours per response | Estimated total hour burden
51 | 1 | 51 | 16 | 816

Send comments to Susan G. Queen, PhD, HRSA Reports Clearance Officer, Room 10-33, Parklawn Building, 5600 Fishers Lane, Rockville, MD 20857. Written comments should be received within 60 day of this notice.

Dated: May 10, 2005.
Tina M. Cheatham,
Director, Division of Policy Review and Coordination.

[FR Doc. 05-9677 Filed 5-13-05; 8:45 am]

BILLING CODE 4165-15-P